DEPARTMENT OF TRANSPORTATION

Surface Transportation Board

[STB Docket No. AB-33 (Sub-No. 212X)]

Union Pacific Railroad Company—Discontinuance of Service and Trackage Rights Exemption—in Los Angeles and Orange Counties, CA

Union Pacific Railroad Company (UP) has filed a notice of exemption under 49 CFR 1152 subpart F—Exempt Abandonments and Discontinuances of Service to discontinue service and trackage rights over two segments of a rail line known as the Paramount Industrial Lead, owned by the Los Angeles County Metropolitan Transportation Authority and the Orange County Transportation Authority. The line segments extend: (1) Between milepost 495.18 and milepost 495.83 northwest of the intersection of Garfield and Rosecrans; and (2) between milepost 497.11 near Crutcher and milepost 507.87 in North Stanton, for a total distance of 11.41 miles in Los Angeles and Orange Counties, CA. The line traverses United States Postal Service Zip Codes 90623, 90630, 90680, 90701, 90703, 90706, 90715, 90723, and 92804.

UP has certified that: (1) No local traffic has moved over the line for at least 2 years; (2) there is no overhead traffic on the line; (3) no formal complaint filed by a user of rail service on the line (or by a state or local government entity acting on behalf of such user) regarding cessation of service over the line either is pending with the Board or with any U.S. District Court or has been decided in favor of complainant within the 2-year period; and (4) the requirements at 49 CFR 1105.12 (newspaper publication), and 49 CFR 1152.50(d)(1) (notice to governmental agencies) have been met.¹

¹ Because UP's discontinuance of service and of trackage rights will merely result in the cessation of service over the line, the proceeding is exempt from the requirements of 49 CFR 1105.7 (environmental reports), 49 CFR 1105.8 (historic reports) and 49 CFR 1105.11 (transmittal letter).

As a condition to this exemption, any employee adversely affected by the discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on April 30, 2004,² unless stayed pending reconsideration. Petitions to stay and formal expressions of intent to file an OFA under 49 CFR 1152.27(c)(2),³ must be filed by April 12, 2004.⁴ Petitions to reopen must be filed by April 20, 2004, with the Surface Transportation Board, 1925 K Street, NW., Washington, DC 20423-0001.

² Pursuant to 49 CFR 1152.50(d)(2), the railroad must file a verified notice with the Board at least 50 days before the abandonment or discontinuance is to be consummated. The applicant initially indicated a proposed consummation date of April 16, 2004, but because the verified notice was filed on March 11, 2004, consummation may not take place prior to April 30, 2004.

³ Each OFA must be accompanied by the filing fee, which currently is set at $1,100. See 49 CFR 1002.2(f)(25).

⁴ Because this is a discontinuance proceeding, trail use/rail banking and public use conditions are not applicable.

A copy of any petition filed with the Board should be sent to UP's representative: Mack H. Shumate, Jr., Senior General Attorney, Union Pacific Railroad Company, 101 North Wacker Drive, Room 1920, Chicago, IL 60606.

If the verified notice contains false or misleading information, the exemption is void ab initio.

Board decisions and notices are available on our Web site at http://www.stb.dot.gov.

Decided: March 24, 2004.
By the Board, Joseph H. Dettmar, Acting Director, Office of Proceedings.
Vernon A. Williams,
Secretary.

[FR Doc. 04-7201 Filed 3-30-04; 8:45 am]

BILLING CODE 4915-01-P